DEPARTMENT OF ENERGY

[Docket Nos. 12-100-LNG and 23-109-LNG]

Southern LNG Company, L.L.C.; Application To Amend Long-Term Authorization To Export Liquefied Natural Gas to Non-Free Trade Agreement Nations To Include Certain Bunkering Activities

AGENCY: Office of Fossil Energy and Carbon Management, Department of Energy.

ACTION: Notice of application.

SUMMARY: The Office of Fossil Energy and Carbon Management (FECM) (formerly the Office of Fossil Energy (FE)) of the Department of Energy (DOE) gives notice (Notice) of receipt of an application (Amendment Application), filed by Southern LNG Company, L.L.C. (Southern LNG) on July 31, 2025, and supplemented on September 11, 2025. Southern LNG seeks to amend its existing long-term authorization to export domestically produced liquefied natural gas (LNG) to non-free trade agreement countries set forth in DOE/FE Order No. 3956 (as amended)—specifically to allow such exports (1) in approved containers loaded onto vessels and (2) in bulk, loaded into bunkering vessels for ship-to-ship transfer as marine fuel to ships located within the territorial seas of foreign countries (including that country's ports). No other part of the existing authorization would be affected. Southern LNG also seeks to amend an application it filed in a separate proceeding, to allow additional exports to non-FTA countries, to include the same amendments to the activities it seeks for its existing authorization. Southern LNG filed the Amendment Application under the Natural Gas Act (NGA).

DATES: Protests, motions to intervene, or notices of intervention, as applicable, and written comments are to be filed as detailed in the Public Comment Procedures section no later than 4:30 p.m., Eastern time, on October 29, 2025.

ADDRESSES:

Electronic Filing by email (strongly encouraged): fergas@hq.doe.gov.

Postal Mail, Hand Delivery, or Private Delivery Services (e.g., FedEx, UPS, etc.): U.S. Department of Energy (FE-34), Office of Regulation, Analysis, and Engagement, Office of Fossil Energy and Carbon Management, Forrestal Building, Room 3E-056, 1000 Independence Avenue SW, Washington, DC 20585.

Due to potential delays in DOE's receipt and processing of mail sent through the U.S. Postal Service, we encourage respondents to submit filings electronically to ensure timely receipt.

FOR FURTHER INFORMATION CONTACT:

Jennifer Wade or Peri Ulrey, U.S. Department of Energy (FE-34), Office of Regulation, Analysis, and Engagement, Office of Resource Sustainability, Office of Fossil Energy and Carbon Management, Forrestal Building, Room 3E-042, 1000 Independence Avenue SW, Washington, DC 20585, (202) 586-4749 or (202) 586-7893, jennifer.wade@hq.doe.gov or peri.ulrey@hq.doe.gov

Irene V. Norville, U.S. Department of Energy (GC-76), Office of the Assistant General Counsel for Energy Delivery and Resilience, Forrestal Building, Room 6D-033, 1000 Independence Avenue SW, Washington, DC 20585, (240) 702-5679, irene.norville@hq.doe.gov

SUPPLEMENTARY INFORMATION: On December 16, 2016, in Order No. 3956 (as amended),¹ DOE authorized Southern LNG to export domestically produced LNG by vessel from the Elba Island Terminal in Chatham County, Georgia, to any country with which the United States has not entered into a free trade agreement (FTA) requiring national treatment for trade in natural gas, and with which trade is not prohibited by U.S. law or policy (non-FTA countries), pursuant to NGA section 3(a).² Southern LNG is authorized to export this LNG in a volume equivalent to 130 billion cubic feet (Bcf) per year (Bcf/yr) of natural gas ³ for a term extending through December 31, 2050.⁴

¹ Southern LNG Co., L.L.C., DOE/FE Order No. 3956, Docket No. 12-100-LNG, Opinion and Order Granting Long-Term, Multi-Contract Authorization to Export Liquefied Natural Gas by Vessel from the Elba Island Terminal in Chatham County, Georgia to Non-Free Trade Agreement Nations (Dec. 16, 2016), amended by DOE/FE Order No. 3956-A (Dec. 30, 2020) (extending export term).

² 15 U.S.C. 717b(a).

³ Southern LNG holds a corresponding authorization to export LNG to countries with which the United States has a FTA requiring national treatment for trade in natural gas, in a volume equivalent to 182.5 Bcf/yr of natural gas. When it applied for this authorization, Southern LNG requested the same volume for non-FTA export. Under NGA section 3(c), 15 U.S.C. 717b(c), DOE was required to grant the FTA export in the full volume requested. However, because the Federal Energy Regulatory Commission, under its own NGA section 3 authority, had only approved a facility with an export capacity of up to 130 Bcf/yr, DOE only authorized that volume for non-FTA export. The volumes authorized in each authorization are not additive to one another.

⁴ Southern LNG Co., L.L.C., DOE/FE Order No. 3956, as amended by DOE/FE Order No. 3956-A.

On September 25, 2023, Southern LNG filed an application for authorization to export an additional 28.25 Bcf/yr from the Elba Island Terminal to non-FTA countries in Docket No. 23-109-LNG.⁵ DOE published notice of this application in the Federal Register on October 24, 2023.⁶ That application remains pending.

⁵ Southern LNG Company, L.L.C., Application for Long-Term Authorization to Export Liquefied Natural Gas to Non-Free Trade Agreement Nations, Docket No. 23-109-LNG (Sept. 25, 2023).

⁶ 88 FR 73008 (Oct. 24, 2023).

In the Amendment Application filed on July 31, 2025, Southern LNG seeks to utilize additional methods for the export of LNG: “(i) in approved ISO containers loaded in such containers onto vessels, and (ii) in bulk, loaded into bunkering vessels for transfer as marine fuel to ships located within the territorial sea of a foreign country (including ships located in foreign ports)[.]” ⁷ Southern LNG asks DOE to “amend [its authorizations] to add transfers of U.S.-sourced LNG in bunkering operations conducted within the territorial seas of foreign countries (including ports of such foreign countries) to the categories of activities to which those authorizations apply.” ⁸ In support of its request, Southern LNG notes that DOE clarified its jurisdiction over LNG transferred to a receiving ship for use as marine fuel in an order issued to JAX LNG, LLC in February 2025.⁹ According to Southern LNG, “[t]he modified authorization sought in this Amendment Application should be deemed to be consistent with the public interest . . . for the same reasons as [its current authorizations] and [as DOE] has authorized JAX LNG, LLC to engage in exports of LNG through bunkering operations in the territorial waters of foreign countries.” ¹⁰

⁷ Southern LNG Company, L.L.C., Application to Amend Long-Term, Multi-Contract Authorization to Export Natural Gas to Free Trade Agreement and Non-Free Trade Agreement Nations to Include Exports of LNG by Ship-to-Ship Transfers Within the Territorial Seas and Ports of Foreign Countries, Docket Nos. 12-54-LNG and 12-100-LNG, at 7 (July 31, 2025) [hereinafter Amendment App.].

⁸ Id. at 2. Southern LNG requests the amendment for both its FTA and non-FTA authorizations. The FTA authorization is under a separate proceeding (Docket No. 12-54-LNG) not subject to this Notice.

⁹ Id. at 3 (citing JAX LNG, LLC, DOE/FECM Order No. 5233-A, Docket No. 24-73-LNG, Order Granting Request for Rehearing and Clarification and Modifying Order (Feb. 25, 2025)).

¹⁰ Id. at 5.

On September 11, 2025, Southern LNG filed a supplement to the Amendment Application “to (i) add a docket to [its] Amendment Application and to request that DOE/FECM authorize the actions requested in [its] Amendment Application as part of its order in that proceeding; and (ii) clarify certain aspects of its original request[.]” ¹¹ In the Amendment Application Supplement, Southern LNG asks DOE to also authorize bunkering events for the additional 28.25 Bcf/yr of natural gas it seeks to export to non-FTA countries in Docket No. 23-109-LNG.¹² Southern LNG further clarifies that the term “bunkering events” as used in its Amendment Application includes both ship-to-ship fuel transfers and ISO container loading.¹³ Additionally, Southern LNG clarifies that it does not qualify under the small-scale natural gas exports rule under 10 CFR 590.208(a), as incorrectly stated in its Amendment Application.¹⁴

¹¹ Southern LNG Company, L.L.C., Supplement to Application to Amend Long-Term, Multi-Contract Authorization to Export Natural Gas to Free Trade Agreement and Non-Free Trade Agreement Nations to Include Exports of LNG by Ship-to-Ship Transfers Within the Territorial Seas and Ports of Foreign Countries, Docket Nos. 12-54-LNG et al., at 1 (Sept. 11, 2025) [hereinafter Amendment App. Supp.].

¹² Amendment App. Supp. at 3-4.

¹³ Id. at 2.

¹⁴ Id.

Additional details can be found in the Amendment Application and Amendment Application Supplement, posted on the DOE website at https://www.energy.gov/sites/default/files/2025-07/2025.07.31%20SLNG%20Amendment%20DOE%20Bunkering%20%28Final%29.pdf, and https://www.energy.gov/sites/default/files/2025-09/2025.09.10.%20SLNG%20Amendment%20DOE%20Bunkering%20Supplement%20%28executed%29.pdf, respectively.

DOE Evaluation

In reviewing the Amendment Application, DOE will consider any issues required by law or policy under NGA section 3(a), DOE's regulations, and any other documents deemed appropriate.

Parties that may oppose the Amendment Application should address these issues and documents in their comments and/or protests, as well as other issues deemed relevant to the Amendment Application.

The National Environmental Policy Act (NEPA), 42 U.S.C. 4321 et seq., requires DOE to give appropriate consideration to the environmental effects of its proposed decisions. No final decision will be issued in this proceeding until DOE has met its NEPA responsibilities.

Public Comment Procedures

In response to this Notice, any person may file a protest, comments, or a motion to intervene or notice of intervention, as applicable, addressing the Amendment Application. Interested parties will be provided 30 days from the date of publication of this Notice in the Federal Register in which to submit comments, protests, motions to intervene, or notices of intervention. The public previously was given an opportunity to intervene in, protest, and comment on Southern LNG's long-term non-FTA application in this docket. Therefore, DOE will not consider comments or protests that do not bear directly on the Amendment Application.

Any person wishing to become a party to the proceeding evaluating the Amendment Application must file a motion to intervene or notice of intervention.¹⁵ The filing of comments or a protest with respect to the Amendment Application will not serve to make the commenter or protestant a party to this proceeding, although protests and comments received from persons who are not parties will be considered in determining the appropriate action to be taken on the Amendment Application. All protests, comments, motions to intervene, or notices of intervention must meet the requirements specified by the regulations in 10 CFR part 590, including the service requirements.

¹⁵ Status as an intervenor in prior proceeding(s) in this docket does not continue to this proceeding evaluating Southern LNG's Amendment Application, and therefore any person interested in intervening to address the Amendment Application must file a new motion to intervene (or notice of intervention, as applicable). 10 CFR 590.303.

Filings may be submitted using one of the following methods:

(1) Submitting the filing electronically at fergas@hq.doe.gov;

(2) Mailing the filing to the Office of Regulation, Analysis, and Engagement at the address listed in the ADDRESSES section; or

(3) Hand delivering the filing to the Office of Regulation, Analysis, and Engagement at the address listed in the ADDRESSES section.

For administrative efficiency, DOE prefers filings to be filed electronically. All filings must include a reference to “Docket Nos. 12-100-LNG and 23-109-LNG” or “Southern LNG Amendment Application” in the title line. Filings must be submitted in English to be considered.¹⁶

¹⁶ Executive Order 14224 of March 1, 2025, Designating English as the Official Language of the United States, 90 FR 11363 (Mar. 6, 2025).

For electronic submissions: Please include all related documents and attachments (e.g., exhibits) in the original email correspondence. Please do not include any active hyperlinks or password protection in any of the documents or attachments related to the filing. All electronic filings submitted to DOE must follow these guidelines to ensure that all documents are filed in a timely manner.

The Amendment Application, and any filed protests, motions to intervene, notices of intervention, and comments will be available electronically on the DOE website at www.energy.gov/fecm/regulation.

A decisional record on the Amendment Application will be developed through responses to this Notice by parties, including the parties' written comments and replies thereto. Additional procedures will be used as necessary to achieve a complete understanding of the facts and issues. If an additional procedure is scheduled, notice will be provided to all parties. If no party requests additional procedures, a final Order may be issued based on the official record, including the Amendment Application and responses filed by parties pursuant to this Notice, in accordance with 10 CFR 590.316.

Signed in Washington, DC, on September 25, 2025.
Amy Sweeney,
Director, Office of Regulation, Analysis, and Engagement, Office of Resource Sustainability.

[FR Doc. 2025-18830 Filed 9-26-25; 8:45 am]

BILLING CODE 6450-01-P